DEPARTMENT OF HEALTH AND HUMAN SERVICES

Centers for Disease Control and Prevention

[Program Announcement 04287]

Purchase, Distribution and Tracking of Supplies to Support HIV/AIDS-Related Laboratory Services in the Republic of Uganda; Notice of Intent to Fund Single Eligibility Award

A. Purpose

The Centers for Disease Control and Prevention (CDC) announces the intent to fund fiscal year (FY) 2004 funds for a cooperative agreement program to The overall aim of this program is ensure a full-supply of laboratory reagents and materials for HIV-related laboratory services at all health center III (HC III) facilities and above, but excluding reference laboratories, to enable President's Emergency Plan for AIDS Relief (PEPFAR) goals of expanded HIV testing, care and treatment to be met. This program announcement (PA) is intended to complement PA # 04223, “Laboratory Service Strengthening at Health Centre IV and Above in the Republic of Uganda”. The Catalog of Federal Domestic Assistance number for this program is 93.941.

B. Eligible Applicant

Assistance will be provided only to the National Medical Stores (NMS) of the Republic of Uganda.

NMS is the mandated institution in Uganda for the purchase and distribution of health-related commodities to government health facilities in Uganda. NMS has demonstrated their capacity for procurement, distribution and tracking of health-related commodities to government health facilities over the past 12 months through the essential drugs pull system. Because program implementation is to begin in September 2004 it is necessary to work with an organization already providing supplies to the government health sector. NMS will in addition work with the Joint Medical Stores (JMS) to ensure that NGO and faith-based health facilities have access to laboratory supplies through an integrated logistics system. The logistics system will have the capacity to absorb donations from donors other than CDC, either as cash or product, and to distribute and track these supplies; examples are the HIV test kits procured by MAP funding and the laboratory supplies purchased and distributed by the TB and malaria control programs.

NMS is based in Entebbe and has good warehousing facilities and well-developed systems for procurement, storage, stock control and distribution. It is expected that the existing facilities and systems will absorb the increased level of activities resulting from implementation of the laboratory logistics system though inevitably some increase in capacity will be needed. Vehicles, which currently deliver essential drug kits around the country, will, in addition, carry the laboratory supplies pre-packaged for each health unit.

C. Funding

Approximately $1,000,000 is available in FY 2004 to fund this award. It is expected that the award will begin on or before September 1, 2004, and will be made for a 12-month budget period within a project period of up to 5 years. Funding estimates may change.

D. Where To Obtain Additional Information

For general comments or questions about this announcement, contact: Technical Information Management, CDC Procurement and Grants Office, 2920 Brandywine Road, Atlanta, GA 30341-4146, Telephone: 770-488-2700.

For technical questions about this program, contact: Jonathan Mermin, MD, MPH, Global Aids Program [GAP], Uganda Country Team, National Center for HIV, STD and TB Prevention, Centers for Disease Control and Prevention [CDC], PO Box 49, Entebbe, Uganda. Telephone: +256-41320776. E-mail: jhm@cdc.gov.

William P. Nichols,
MPA, Acting Director, Procurement and Grants Office,Centers for Disease Control and Prevention.

[FR Doc. 04-18101 Filed 8-6-04; 8:45 am]

BILLING CODE 4163-18-P